DEPARTMENT OF THE INTERIOR

Bureau of Land Management

[LLNVS01000. L51010000.ER0000. LVRWF1906420. 19X; N-90788; MO#4500143154]

Notice of Availability for the Draft Environmental Impact Statement for the Yellow Pine Solar Project in Clark County, NV

AGENCY: Bureau of Land Management, Interior.

ACTION: Notice of availability.

SUMMARY: In accordance with the National Environmental Policy Act of 1969, as amended, the Bureau of Land Management (BLM) has prepared a Draft Environmental Impact Statement (EIS) for the Yellow Pine Solar Project and by this notice is announcing the opening of the comment period.

DATES: This notice initiates the public comment period for the Draft EIS. To ensure that comments will be considered, the BLM must receive written comments on the Draft EIS within 45 days following the date the Environmental Protection Agency publishes its Notice of Availability in the Federal Register. The dates and locations of any public meetings will be announced at least 15 days in advance through local media, newspapers and the BLM website at: https://go.usa.gov/xQF3z. We will provide additional opportunities for public participation upon publication of the Final EIS.

ADDRESSES: You may submit comments related to the Yellow Pine Solar Project Draft EIS by any of the following methods:

• Website: https://go.usa.gov/xQF3z

• Email: blm_nv_sndo_yellowpine@blm.gov

• Fax: 702-515-5023

• Mail: Yellow Pine Solar Project, Attn: Herman Pinales, BLM Las Vegas Field Office, 4701 N. Torrey Pines Drive, Las Vegas, NV 89130

FOR FURTHER INFORMATION CONTACT: Herman Pinales, Energy & Infrastructure Project Manager, telephone 702-515-5284; address 4701 North Torrey Pines Drive, Las Vegas, Nevada 89130-2301; email blm_nv_sndo_yellowpine@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This Draft EIS addresses two separate but connected applications that have been submitted to the BLM Las Vegas Field Office. First, Yellow Pine Solar, LLC has applied for a right-of-way on public land to construct, operate, and maintain a proposed solar energy generation station and ancillary facilities including battery storage, known as the Yellow Pine Solar Facility. Second, GridLiance West, LLC has applied for a right-of-way (ROW) on public land to construct, operate, and maintain a GridLiance West 230-kilovolt (kV) Trout Canyon Substation and associated 230-kV transmission line. These two applications are collectively known as the Yellow Pine Solar Project.

The proposed Yellow Pine Solar Project is located approximately 10 miles southeast of Pahrump and approximately 32 miles west of Las Vegas in Clark County, Nevada. The Yellow Pine Solar Project would be located on approximately 3,072 acres of BLM managed public land.

The Draft EIS addresses the direct, indirect and cumulative environmental impacts of the proposed action and alternatives. The Draft EIS evaluates the Proposed Action, the Modified Layout Alternative, the Mowing Alternative, and the No Action Alternative. All of the analysis involves development on approximately 3,072 acres of land; however, each action/alternative differs in how the facility is constructed. The Proposed Action would be divided into four unique sub-areas to avoid three large washes that cross the study area. The Proposed Action would involve solar development utilizing traditional methods, which include disk and roll which removes all vegetation from within the solar arrays. The Modified Layout would involve one combined project area on the west side of the project study area to increase space between the project and the Tecopa Road, State Route 160, and the Stump Springs Desert Tortoise Translocation Area. The Mowing Alternative is a construction methods alternative that may be applied to either site layout. Under the Mowing Alternative, vegetation would be maintained at a height of 18 to 24 inches to address concerns related to the loss of topsoil, vegetation, and seedbanks. The No Action Alternative would be a continuation of existing conditions. The BLM has identified the Proposed Action layout using the Mowing Alternative construction method as the preferred alternative.

A Notice of Intent (NOI) to prepare an EIS for the proposed Yellow Pine Solar Project was published in the Federal Register on June 1, 2018 (83 FR 25484). The public scoping period closed on August 30, 2018. The BLM held two public scoping meetings. The BLM received 57 public scoping comment letters during the 45-day scoping period. The scoping comments focused on biological resources including the threatened Mojave desert tortoise, alternatives development, visual resources, cultural resources, and impacts to the Old Spanish National Historic Trail.

The BLM analyzed a combination of proposed environmental measures and possible mitigation to eliminate or minimize impacts associated with the proposed action. These included the potential for identifying opportunities to apply on-site mitigation strategies appropriate to the site of the proposal, and management actions to achieve resource objectives.

The BLM continues to consult with Indian tribes on a government-to-government basis in accordance with Executive Order 13175 and other policies. Tribal concerns, including impacts to Indian trust assets and potential impacts to cultural resources, will be given due consideration.

Please note that public comments and information submitted including names, street addresses, and email addresses of persons who submit comments will be available for public review and disclosure at the above address during regular business hours (8 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Gera Ashton,
Acting District Manager, Southern Nevada District.

[FR Doc. 2020-05745 Filed 3-19-20; 8:45 am]

BILLING CODE 4310-HC-P